SECURITIES AND EXCHANGE COMMISSION

[OMB Control No. 3235-0327]

Submission for OMB Review; Comment Request; Extension: Form SE

Upon Written Request, Copies Available From: Securities and Exchange Commission, Office of FOIA Services, 100 F Street NE, Washington, DC 20549-2736

Notice is hereby given that, pursuant to the Paperwork Reduction Act of 1995 (44 U.S.C. 3501 et seq.) (“PRA”), the Securities and Exchange Commission (“Commission”) has submitted to the Office of Management and Budget (“OMB”) this request for extension of the previously approved collection of information discussed below.

Form SE (17 CFR 239.64, 17 CFR 249.444, 17 CFR 269.8, 17 CFR 274.403) is used by filers on the Commission's Electronic Data Gathering Analysis and Retrieval system (“EDGAR”), to submit any paper document relating to an otherwise electronic filing and must accompany exhibits filed in paper pursuant to a hardship exemption, as provided in Rule 311 of Regulation S-T (17 CFR 232.311). The information contained in Form SE is used by the Commission to identify paper copies of exhibits. Form SE is filed by individuals, companies or other entities that are required to file documents electronically. Approximately 2.7 filers file Form SE each year and it takes an estimated 0.10 hours per response for a total annual burden of 0.27 hours (0.10 hours per response × 2.7 responses). For administrative convenience, we are estimating an annual burden of 1 hour (as the nearest whole number above zero).

An agency may not conduct or sponsor, and a person is not required to respond to, a collection of information unless it displays a currently valid OMB Control Number.

Written comments are invited on: (a) whether this collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology.

The public may view and comment on this information collection request at: https://www.reginfo.gov/public/do/PRAViewICR?ref_nbr=202412-3235-026 or send an email comment to MBX.OMB.OIRA.SEC_desk_officer@omb.eop.gov within 30 days of the day after publication of this notice by April 7, 2025.

Dated: March 4, 2025.
Sherry R. Haywood,
Assistant Secretary.

[FR Doc. 2025-03720 Filed 3-6-25; 8:45 am]

BILLING CODE 8011-01-P